DEPARTMENT OF ENERGY

Federal Energy Regulatory Commission

[Docket No. CP20-48-000]

Iroquois Gas Transmission System, L.P.; Notice of Availability of the Draft Environmental Impact Statement for the Proposed Enhancement by Compression Project

The staff of the Federal Energy Regulatory Commission (FERC or Commission) has prepared a draft environmental impact statement (EIS) for the Enhancement by Compression Project (Project), proposed by Iroquois Gas Transmission System, L.P. (Iroquois) in the above-referenced docket. Iroquois requests authorization to construct and operate natural gas transmission facilities in New York and Connecticut. The Project is designed to provide a total of 125,000 dekatherms per day of incremental firm transportation service for two existing customers of Iroquois, Consolidated Edison Company of New York, Inc. and KeySpan Gas East Corporation doing business as National Grid.

The draft EIS responds to comments that were received on the Commission's September 30, 2020 Environmental Assessment (EA) ¹ and discloses downstream greenhouse gas emissions for the Project. With the exception of greenhouse gas emissions, the FERC staff concludes that approval of the proposed Project, with the mitigation measures recommended in this EIS, would not result in significant environmental impacts. FERC staff continues to be unable to come to a determination of significance with regards to greenhouse gas emissions.

¹ The Project's Environmental Assessment is available on eLibrary under accession no. 20200930-3011.

The draft EIS incorporates the above referenced EA, which addressed the potential environmental effects of the construction and operation of the following Project facilities:

• Athens Compressor Station—installation of one new 12,000 horsepower (hp) natural gas turbine (Unit A2) in a new building with associated cooling, filter separators, and other facilities connecting to Iroquois' existing 24-inch-diameter mainline within the existing fenced compressor station boundary (Greene County, New York).

• Dover Compressor Station—installation of one new 12,000 hp natural gas turbine (Unit A2) in a new building with associated cooling, filter separators, and other facilities connecting to Iroquois' existing 24-inch-diameter mainline and expansion of the existing compressor station fenceline within the property boundary (Dutchess County, New York).

• Brookfield Compressor Station—construction of a control/office building, addition of two new, natural gas 12,000 hp turbines (Unit B1 and Unit B2) in a new building with associated cooling, filter separators, and other typical facilities connecting to Iroquois' existing 24-inch-diameter mainline. Additionally, Iroquois would install incremental cooling at Plant 2-A to allow for compressed discharge gas to be cooled, prior to being compressed at the proposed downstream compressors (Units B1 and B2). Iroquois would also replace existing turbine stacks on the existing compressor units (Unit-A1 and Unit-A2) and add other noise reduction measures (e.g., louvers, seals) to minimize existing noise at the site. Modifications at this site would require expansion of the existing compressor station fenceline within the property boundary (Fairfield County, Connecticut).

• Milford Compressor Station—addition of gas cooling to existing compressor units and associated piping to allow for compressed discharge gas to be cooled within the current fenced boundaries of the existing compressor station, where no gas cooling facilities currently exist (New Haven County, Connecticut).

The Commission mailed a copy of the Notice of Availability of the Draft Environmental Impact Statement for the Proposed Enhancement by Compression Project to federal, state, and local government representatives and agencies; elected officials; environmental and public interest groups; Native American tribes; potentially affected landowners and other interested individuals and groups; and newspapers and libraries in the Project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field (i.e. CP20-48). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, including climate impacts due to downstream greenhouse gas emissions, and measures to avoid or lessen environmental impacts. To ensure consideration of your comments on the proposal in the final EIS, it is important that the Commission receive your comments on or before 5:00pm Eastern Time on August 2, 2021.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the Project docket number (CP20-48-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: June 11, 2021.
Kimberly D. Bose,
Secretary.

[FR Doc. 2021-12786 Filed 6-16-21; 8:45 am]

BILLING CODE 6717-01-P